DEPARTMENT OF COMMERCE

International Trade Administration

United States Investment Advisory Council

AGENCY: SelectUSA, International Trade Administration, U.S. Department of Commerce.

ACTION: Notice of an open meeting.

SUMMARY: In accordance with the Federal Advisory Committee Act (FACA), this notice announces, the United States Investment Advisory Council (IAC) will hold a public meeting on May 1, 2023 at the U.S. Department of Commerce in Washington, DC. In August 2022, U.S. Secretary of Commerce Gina M. Raimondo appointed a new cohort of members to serve two-year terms. Members of this cohort will meet for the third time to continue to discuss matters related to foreign direct investment (FDI) in the United States and the programs and policies to promote and retain such investments across the country.

DATES: Monday, May 1, 2023, 4:30 p.m.-6:00 p.m. ET.

ADDRESSES: The meeting will be held in person only at the U.S. Department of Commerce in Washington, DC. Please note that registration is required both to attend the meeting and to make a statement during the public comment portion of the meeting. The meeting has a limited number of spaces for members of the public to attend in-person, and requests to attend will be considered on a first-come first-served basis. Please limit comments to five minutes or less and submit a brief statement summarizing your comments to: IAC@trade.gov or United States Investment Advisory Council, U.S. Department of Commerce, 1401 Constitution Avenue NW, Room 30011, Washington, DC 20230. The deadline for members of the public to register, including requests to make comments during the meeting, or to submit written comments for dissemination prior to the meeting is 5:00 p.m. ET on April 24, 2023. Members of the public are encouraged to submit registration requests and written comments via email to ensure timely receipt.

FOR FURTHER INFORMATION CONTACT: Claire Pillsbury, United States Investment Advisory Council, Room 30011, 1401 Constitution Avenue NW, Washington, DC 20230, phone: 202-578-8239, email: IAC@trade.gov.

SUPPLEMENTARY INFORMATION: The IAC was established under the discretionary authority of the Secretary of Commerce (Secretary) and in accordance with the Federal Advisory Committee Act (5 U.S.C. app.). The IAC advises the Secretary on matters relating to the promotion and retention of foreign direct investment in the United States. At the meeting, the IAC members will discuss work done within the three working groups: Economic Competitiveness, Workforce, and SelectUSA 2.0. The final agenda will be posted on the Department of Commerce website for the IAC at: https://www.trade.gov/selectusa-investment-advisory-council, prior to the meeting.

Public Participation: The meeting will be open to the public on a first-come first-served basis and will be accessible to people with disabilities. All guests are required to register in advance by the deadline identified under the ADDRESSES caption. Requests for auxiliary aids must be submitted by the registration deadline. Last minute requests will be accepted but may be impossible to fill. There will be fifteen (15) minutes allotted for oral comments from members of the public joining the meeting. To accommodate as many speakers as possible, the time for public comments may be limited to three (3) minutes per person. Individuals wishing to reserve speaking time during the meeting must submit a request at the time of registration, as well as the name and address of the proposed speaker and a brief statement summarizing the comments. If the number of registrants requesting to make statements is greater than can be reasonably accommodated during the meeting, the International Trade Administration may conduct a lottery to determine the speakers.

Speakers are requested to submit a written copy of their prepared remarks by 5:00 p.m. ET on April 24, 2023, for inclusion in the meeting records and for circulation to the Members of the IAC.

In addition, any member of the public may submit pertinent written comments concerning the IAC's affairs at any time before or after the meeting. Comments may be submitted to Claire Pillsbury at the contact information indicated above. To be considered during the meeting, comments must be received no later than 5:00 p.m. ET on April 24, 2023, to ensure transmission to the IAC members prior to the meeting. Comments received after that date and time will be distributed to the members but may not be considered during the meeting. Comments and statements will be posted on the IAC website (https://www.trade.gov/selectusa-investment-advisory-council) without change, including any business or personal information provided such as it includes names, addresses, email addresses, or telephone numbers. All comments and statements received, including attachments and other supporting materials, are part of the public record and subject to public disclosure. You should submit only information that you wish to make publicly available.

Copies of the meeting minutes will be available within 90 days of the meeting date.

William Burwell,
Deputy Executive Director, SelectUSA.

[FR Doc. 2023-08276 Filed 4-18-23; 8:45 am]

BILLING CODE 3510-DR-P